DEPARTMENT OF ENERGY

Federal Energy Regulatory Commission

[Docket No. CP08-473-000]

BreitBurn Operating, L.P.; Notice of Application

September 26, 2008.

Take notice that on September 18, 2008, BreitBurn Operating, L.P. (Breitburn), 515 South Flower Street, Suite 4800, Los Angeles, CA 90071, filed with the Commission an application pursuant to sections 157 of the Commission's regulations under the Natural Gas Act (NGA) seeking a limited jurisdiction transportation certificate, a waiver of certain filing, reporting, and other regulatory requirements otherwise applicable to an interstate pipeline owner and operator, and a blanket construction certificate to perform certain routine activities, all as more fully set forth in the application which is on file with the Commission and open to public inspection.

Copies of this filing are available for review at the Commission's Washington, DC offices, or may be viewed on the Web at http://www.ferc.gov using the “eLibrary” link. Enter the docket number excluding the last three digits in the docket number field to access the document. For assistance, contact FERC at FERCOnlineSupport@ferc.gov or call toll-free, (886) 208-3676 or TYY, (202) 502-8659.

Any questions regarding this application should be directed to Gregory C. Brown, Executive Vice President and General Counsel, BreitBurn Management Company, LLC, 515 South Flower Street, Suite 4800, Los Angeles, CA 97001, phone (213) 225-5900, e-mail gbrown@breitburn.com.

There are two ways to become involved in the Commission's review of this application. First, any person wishing to obtain legal status by becoming a party to this proceeding should file with the Federal Energy Regulatory Commission, 888 First Street, NE., Washington, DC 20426, a motion to intervene in accordance with the requirements of the Commission's Rules of Practice and Procedure (18 CFR 385.214 or 385.211) and the Regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to the project. The Commission will consider these comments in determining the appropriate action to be taken, but the filing of a comment alone will not serve to make the filer a party to the proceeding. The Commission's rules require that persons filing comments in opposition to the project provide copies of their protests only to the party or parties directly involved in the protest.

The Commission strongly encourages electronic filings of comments, protests, and interventions via the internet in lieu of paper. See 18 CFR 385.2001(a)(1)(iii) and the instructions on the Commission's Web site (http://www.ferc.gov) under the “e-Filing” link. Persons unable to file electronically should submit an original and 14 copies of the protest or intervention to the Federal Energy Regulatory Commission, 888 First Street, NE., Washington, DC 20426.

Comment Date: October 17, 2008.

Kimberly D. Bose,
Secretary.

[FR Doc. E8-23211 Filed 10-1-08; 8:45 am]

BILLING CODE 6717-01-P